DEPARTMENT OF THE INTERIOR

Minerals Management Service

Notice on Outer Continental Shelf Oil and Gas Lease Sales

AGENCY: Minerals Management Service, Interior.

ACTION: List of Restricted Joint Bidders.

SUMMARY: Pursuant to the authority vested in the Director of the Minerals Management Service by the joint bidding provisions of 30 CFR 256.41, each entity within one of the following groups shall be restricted from bidding with any entity in any other of the following groups at Outer Continental Shelf oil and gas lease sales to be held during the bidding period November 1, 2009 through April 30, 2010. The List of Restricted Joint Bidders published in the Federal Register on April 20, 2009, covered the period May 1, 2009 through October 31, 2009.

Group I

Exxon Mobil Corporation

ExxonMobil Exploration Company

Group II

Shell Oil Company

Shell Offshore Inc.

SWEPI LP

Shell Frontier Oil & Gas Inc.

Shell Consolidated Energy Resources Inc.

Shell Land & Energy Company

Shell Onshore Ventures Inc.

Shell Offshore Properties and Capital II, Inc.

SOI Finance Inc.

Shell Rocky Mountain Production LLC

Shell Gulf of Mexico Inc.

Group III

BP America Production Company

BP Exploration & Production Inc.

BP Exploration (Alaska) Inc.

Group IV

TOTAL E&P USA, Inc.

Group V

Chevron Corporation

Chevron U.S.A. Inc.

Chevron Midcontinent, L.P.

Unocal Corporation

Union Oil Company of California

Pure Partners, L.P.

Group VI

ConocoPhillips Company

ConocoPhillips Alaska, Inc.

ConocoPhillips Petroleum Company

Phillips Pt. Arguello Production Company

Burlington Resources Oil & Gas Company LP

Burlington Resources Offshore Inc.

The Louisiana Land and Exploration Company

Inexeco Oil Company

Group VII

Eni Petroleum Co. Inc.

Eni Petroleum US LLC

Eni Oil US LLC

Eni Marketing Inc.

Eni BB Petroleum Inc.

Eni US Operating Co. Inc.

Eni BB Pipeline LLC

Group VIII

Petrobras America Inc.

Group IX

StatoilHydro ASA

Statoil Gulf of Mexico LLC

StatoilHydro USA E&P, Inc.

StatoilHydro Gulf Properties Inc.

Dated: October 30, 2009.
S. Elizabeth Birnbaum,
Director, Minerals Management Service.

[FR Doc. E9-28088 Filed 11-20-09; 8:45 am]

BILLING CODE 4310-MR-P